DEPARTMENT OF COMMERCE

National Oceanic and Atmospheric Administration

[I.D. 061203H]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Groundfish Advisory Panel and Groundfish Oversight Committee in July, 2003 to consider actions affecting New England fisheries in the exclusive economic zone (EEZ). Recommendations from these groups will be brought to the full Council for formal consideration and action, if appropriate.

DATES: The meetings will be held between July 8-10, 2003. See SUPPLEMENTARY INFORMATION for specific dates and times.

ADDRESSES: The meetings will be held the Holiday Inn, One Newbury Street, Peabody, MA 01960; telephone: (978) 535-4600.

Council address: New England Fishery Management Council, 50 Water Street, Mill 2, Newburyport, MA 01950.

FOR FURTHER INFORMATION CONTACT: Paul J. Howard, Executive Director, New England Fishery Management Council (978) 465-0492.

SUPPLEMENTARY INFORMATION:

Meeting Dates and Agendas

Tuesday, July 8, 2003, 9:30 a.m.-Groundfish Advisory Panel Meeting

The advisory panel will review the draft Amendment 13, including the Draft Supplemental Environmental Impact Statement (DSEIS). Amendment 13 proposes major changes to groundfish management regulations, and the advisory panel will review the proposed measures and the analyses of impacts in the draft document. They will also consider identifying preferred alternatives. Any recommendations of the panel will be presented to the Groundfish Committee on July 8-9, and to the full Council later that month. After Council approval, the draft Amendment and DSEIS will be taken to public hearings in the fall of 2003, with a final Council decision planned in November, 2003.

Wednesday, July 9, 2003, 9:30 a.m. and Thursday, July 10, 2003, 8:30 a.m.-Groundfish Oversight Committee.

The committee will review the draft of Amendment 13, including the DSEIS. Amendment 13 proposes major changes to groundfish management regulations, and the committee will review the proposed measures and the analyses of impacts in the draft document. They will also consider changes to the Special Access Program measure that will facilitate proposals for rotational management in the scallop fishery by providing a mechanism to access groundfish closed areas. They may develop recommendations for preferred alternatives, for labeling an alternative “considered but rejected,” or for clarifying measures or analyses. Any recommendations of the Committee will be presented to the full Council during a meeting scheduled for July 15-17, 2003. After Council approval, the draft Amendment and DSEIS will be taken to public hearings in the fall of 2003, with a final Council decision planned in November, 2003.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: June 12, 2003.
Richard W. Surdi,
Acting Director, Office of Sustainable Fisheries, National Marine Fisheries Service.

[FR Doc. 03-15691 Filed 6-19-03; 8:45 am]

BILLING CODE 3510-22-S